DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301)-443-1129.

The following request has been submitted to the Office of Management and Budget for review under the Paperwork Reduction Act of 1995:

Proposed Project: HRSA Grantee Telecommunications and Telehealth Inventory and Database—New

The Health Resources and Services Administration's (HRSA) mission is to improve and expand access to quality health care for all. Through its grant program, HRSA provides funds to ensure the availability of quality health care to low income, uninsured, isolated, vulnerable and special needs populations.

Within HRSA, the Office for the Advancement of Telehealth (OAT) increases access to quality health care services for the underserved by promoting the use of advanced telecommunications and information technologies by health care providers across America. HRSA is a leading national supporter and developer of telehealth, which is the use of electronic information and telecommunications technologies for a wide variety of health-related activities. These include long-distance clinical care, patient and professional education, and health administration.

HRSA provides grant funding to over 8000 recipients to improve healthcare delivery in the United States. Those offices and programs increasingly depend on the emerging technologies and telecommunications systems to deliver healthcare, yet no data is available on grant recipients' access to or utilization of those technologies. The proposed inventory will serve as a model for collecting this type of information across a disparate group of projects nationally and if successful will be ultimately integrated into HRSA's overall data system.

All grantees will be asked to address access to telehealth technologies at their respective institutions. Telehealth activities include the practice of telemedicine, delivery of distance education, health informatics, healthcare staff supervision from remote sites, and the provision of consumer health information using telecommunications technologies. Additionally, grantees will be asked to provide information on their network members or satellite site. For those grantees practicing telemedicine, the survey will include a section on diagnostic tools and clinical capabilities.

The survey will be delivered via the world wide web; hard copy will be made available for those grantees with no Internet access. Substantive questions may be systematically included in the grantees' progress reporting.

Estimated burden hours:

Task | Number of respondents | Number of responses per respondent | Total Number of responses | Hours per response | Total burden hours
Inventory assessment tool—Grant support | 100 | 1 | 100 | .5 | 50
Inventory assessment tool—No grant support | 7,900 | 1 | 7,900 | .17 | 1,343
Total | 8,000 |  | 8,000 |  | 1,393

Written comments and recommendations concerning the proposed information collection should be sent within 30 days of this notice to: Allison Eydt, Human Resources and Housing Branch, Office of Management and Budget, New Executive Office Building, Room 10235, Washington, DC 20503, Fax Number 202-395-6974.

Dated: June 27, 2003.
Jane M. Harrison,
Director, Division of Policy Review and Coordination.

[FR Doc. 03-16955 Filed 7-3-03; 8:45 am]

BILLING CODE 4165-15-P